FEDERAL ELECTION COMMISSION

Sunshine Act Meeting

PREVIOUSLY ANNOUNCED DATE AND TIME: Tuesday, January 25, 2005, 10 a.m. meeting closed to the public. This meeting was cancelled.

* * * * *

DATE AND TIME: Tuesday, February 8, 2005, at 10 a.m.

PLACE: 999 E Street, NW., Washington, DC.

STATUS: This meeting will be closed to the public.

ITEMS TO BE DISCUSSED:

Compliance matters pursuant to 2 U.S.C. 437g.

Audits conducted pursuant to 2 U.S.C. 437g, 438(b), and title 26, U.S.C.

Matters concerning participation in civil actions or proceedings or arbitration.

Internal personnel rules and procedures or matters affecting a particular employee.

* * * * *

FOR FURTHER INFORMATION CONTACT: Mr. Robert Biersack, Press Officer, telephone (202) 694-1220.

Mary W. Dove,
Secretary of the Commission.

[FR Doc. 05-2206 Filed 2-1-05; 2:19 pm]

BILLING CODE 6715-01-M